DEPARTMENT OF COMMERCE

Census Bureau

Agency Information Collection Activities; Submission to the Office of Management and Budget (OMB) for Review and Approval; Comment Request; State and Local Government Finance Collections, and Public Employment and Payroll Collections

AGENCY: U.S. Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revisions to the State and Local Government Finance Collections, and Public Employment and Payroll Collections, prior to the submission of the information collection request (ICR) to OMB for approval.

DATES: To ensure consideration, comments regarding this proposed information collection must be received on or before March 29, 2021.

ADDRESSES: Interested persons are invited to submit written comments by email to Thomas.J.Smith@census.gov. Please reference State and Local Government Finance Collections, and Public Employment and Payroll Collections in the subject line of your comments. You may also submit comments, identified by Docket Number USBC-2020-0034, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Raemeka Mayo, Assistant Division Chief, Economy-Wide Statistics Division, U.S. Census Bureau, Room 5K179, 4600 Silver Hill Road, Washington, DC 20233; phone (301) 763-4688; or by email raemeka.m.mayo@census.gov.

SUPPLEMENTARY INFORMATION:

I. Abstract

The Census Bureau plans to revise the Annual Survey of State Tax Collections (F-5). This survey is collected as part of the larger State and Local Government Finance Collections, and Public Employment and Payroll Collections. We plan to add the collection of cannabis sales and license taxes, and sports betting sales taxes to the Annual Survey of State Tax Collections. Sports betting will include pari-mutuels, which were previously shown separately. This will modernize the survey's content to maintain the relevancy and sustainability of these data. Additionally, cognitive testing showed the addition and removal of questions did not impact overall response time.

The data are released as part of the State and Local Government Finance and Public Employment & Payroll statistical series. The collections also produce individual data products that focus on state governments, local governments, and public pensions in greater detail than the combined financial and employment series as a by-product of their collections for the combined data series. The Census Bureau provides these data to the Bureau of Economic Analysis to develop the public sector components of the National Income and Product Accounts and for constructing the functional payrolls in the public sector of the Gross Domestic Product, payroll being the single largest component of current operations. The Census Bureau also provides these data to the Federal Reserve Board for use in the Flow of Funds Accounts. Other Federal agencies that make use of the data include the Council of Economic Advisers, the Agency for Healthcare Research and Quality, the Government Accountability Office, and the Department of Justice. State and local governments and related organizations, public policy groups, public interest groups, private research organizations, and private sector businesses also use these data.

II. Method of Collection

These surveys use multiple modes for data collection including internet collection with a mailed invitation, telephone, and central collection. Other methods used to collect data and maximize response include collecting state and local government data through submitted financial audits, state financial reports, and comprehensive financial reports and via electronic or mailed files and/or records.

The Census Bureau developed central collection agreements with state and large local government officials to collect the data from their dependent agencies and report to the Census Bureau as a central respondent. These arrangements eliminate the need for a mail invitation for approximately 5,500 governmental units, approximately 3,716 state agencies and 158 school systems in a sample year and 36,000 during the year of the Census of Governments. The arrangements reduce burden by greatly decreasing the number of respondents who must complete an on-line form as the data are acquired from a centralized source instead of multiple sources. Currently, the Census Bureau has central collection arrangements to collect local government data with 27 states, four local school district governments and state government data from all 50 states. The Census Bureau continues to expand the conversion of paper submissions into electronic formats by collaborating with state and local governments regarding electronic reporting of central collection data and encouraging electronic responses from individual governments.

III. Data

OMB Control Number: 0607-0585.

Form Number(s): F-5, F-11, F-12, F-13, F-28, F-29, F-32, E-1, E-2, E-3, E-4, E-5, E-6, E-7, E-8, E-9, E-10.

Type of Review: Regular submission, Request for a Revision of a Currently Approved Collection.

Affected Public: State and local governments.

Estimated Number of Respondents: For F-forms: 13,440, For E-forms: 16,872/sample year; For F-forms 59,259 For E-forms: 99,402/census year; Total: 30,312/sample year, 158,661/census year.

Estimated Time per Response: For F-forms: 3.03, For E-forms: .84 hours/sample year; For F-forms 3.00, For E-forms: .82 hours/census year; Total: 3.87 hours/sample year, 3.82 hours/census year.

Estimated Total Annual Burden Hours: For F-forms: 40,755, For E-forms: 14,164 hours/sample year; For F-forms: 177,826 hours, For E-forms: 81,299 hours/census year; Total: 54,919/sample year, 258,585/census year.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. Sections 161 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-01287 Filed 1-26-21; 8:45 am]

BILLING CODE 3510-07-P